DEPARTMENT OF HEALTH AND HUMAN SERVICES

Health Resources and Services Administration

Statement of Delegation of Authority

Notice is hereby given that I have delegated to the Administrator, Health Resources and Services Administration certain authorities vested in the Secretary, Health and Human Services (HRSA) under Section 307(C), Title III of the Denali Commission Act of 1998, as amended hereafter, pertaining to the Denali Commission's Demonstration Health Projects.

This delegation shall be exercised in accordance with the Department's applicable policies, procedures and guidelines relating to regulations.

In addition, I have affirmed and ratified any actions taken by the HRSA Administrator, or other HRSA officials, which involved the exercise of these authorities prior to the effective date of this delegation.

This delegation is effective upon date of signature.

Dated: February 9, 2009.
Charles E. Johnson,
Acting Secretary.

[FR Doc. E9-3838 Filed 2-24-09; 8:45 am]

BILLING CODE 4165-15-M